DEPARTMENT OF TRANSPORTATION

Federal Aviation Administration

14 CFR Part 39

[Docket No. FAA-2013-0208; Directorate Identifier 2012-NM-204-AD; Amendment 39-17702; AD 2013-25-06]

RIN 2120-AA64

Airworthiness Directives; Airbus Airplanes

AGENCY: Federal Aviation Administration (FAA), Department of Transportation (DOT).

ACTION: Final rule.

SUMMARY: We are adopting a new airworthiness directive (AD) for all Airbus Model A318, A319, A320, and A321 series airplanes. This AD was prompted by a determination that certain maintenance activities, such as repairs or the accumulation of paint layers, might cause the weight of an elevator to exceed the certified limits. This AD requires checking the weight of certain elevators, and corrective action if necessary; and re-identifying the elevators. We are issuing this AD to detect and correct elevators that exceed the certified weight limits, which could result in reduced control of the airplane.

DATES: This AD becomes effective February 10, 2014.

The Director of the Federal Register approved the incorporation by reference of certain publications listed in this AD as of February 10, 2014.

ADDRESSES: You may examine the AD on the Internet at http://www.regulations.gov/#!docketDetail;D=FAA-2013-0208; or in person at the U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. The NPRM was published in the Federal Register on March 11, 2013 (78 FR 15335). The NPRM proposed to correct an unsafe condition for the specified products.

The European Aviation Safety Agency (EASA), which is the Technical Agent for the Member States of the European Community, has issued EASA Airworthiness Directive 2012-0221, dated October 23, 2012 (referred to after this as the Mandatory Continuing Airworthiness Information, or “the MCAI”), to correct an unsafe condition for the specified products. The MCAI states:

It has been identified that maintenance activities, such as repairs or the accumulation of paint layers, may cause the weight of an elevator to exceed the certified limits.

This condition, if not detected and corrected, could result in reduced control of the aeroplane.

For the reasons described above, this [EASA] AD requires a onetime weight check of both left-hand (LH) and right-hand (RH) elevators, accomplishment of corrective actions, as applicable, depending on findings, and re-identification of the elevators.

The monitoring of elevator weight evolution after having complied with this [EASA] AD is ensured by Airbus A318/A319/A320/A321 ALS Part 2 CDCCL (Critical Design Configuration Control Limitations), compliance with which is currently required by EASA AD 2010-0071R1 (http://ad.easa.europa.eu/blob/easa_ad_2010_0071_R1.pdf/AD_2010-0071R1_1), [which corresponds to FAA AD 2011-14-06, Amendment 39-16741 (76 FR 42024, July 18, 2011)].

Corrective action includes removing the paint from the elevator surface and repainting, or replacing the elevator with a serviceable elevator if the weight estimate is over the certified weight limit; and repairing the elevator. You may examine the MCAI in the AD docket on the Internet at http://www.regulations.gov/#!documentDetail;D=FAA-2013-0208-0002.

Comments

We gave the public the opportunity to participate in developing this AD. We considered the comments received.

Support for the NPRM (78 FR 15335, March 11, 2013)

US Airways stated it agrees with the NPRM (78 FR 15335, March 11, 2013) to ensure safety and has been actively weighing and applying new part numbers for over a year.

Request To Change Compliance Time Stipulation

Airbus requested we change paragraph (i) of the NPRM (78 FR 15335, March 11, 2013) to specify that the corrective action for an overweight elevator is required before further flight for that elevator and not for the airplane.

We agree with the commenter's request because the intent of the final rule is to prohibit flight with elevators that exceed the weight limit established in accordance with Airbus Service Bulletin A320-55-1034, including Appendices 1 and 2, dated August 19, 2011. We have changed paragraph (i) in this final rule to state “. . . Before further flight with an elevator that exceeds the weight limits established in Airbus Service Bulletin A320-55-1034, including Appendices 1 and 2, dated August 19, 2011, repair . . . .”

Request To Allow Maintenance Record Check To Identify Affected Elevators

Delta Airlines (DAL) requested we revise the NPRM (78 FR 15335, March 11, 2013) to allow omitting the elevator weight check if a review of the airplane maintenance records shows that an affected elevator is not installed on the airplane.

We disagree with the commenter's request. This final rule does not specify a particular method of determining if an affected elevator is installed. Paragraph (c) of this final rule identifies the affected airplanes, and table 1 to paragraph (g) of this AD lists the affected elevator part numbers. Once an operator determines an affected elevator part number is not installed on an airplane in its fleet, the operator may record compliance with this AD for those airplanes and elevator part numbers. However, the operator is still subject to paragraph (l) of this AD, which prohibits installing the elevator part numbers listed in table 1 to paragraph (g) of this AD, unless the actions required by this AD are accomplished on the elevator before installation. We have not changed this final rule in this regard.

Request To Omit the Elevator Weight Check Under Certain Conditions

DAL requested we add a note to the NPRM (78 FR 15335, March 11, 2013) similar to a note in paragraph 1.E., “Compliance,” of Airbus Service Bulletin A320-55-1034, including Appendices 1 and 2, dated August 19, 2011. DAL stated that elevator installation requires compliance with a critical design configuration control limitation (CDCCL) that requires weighing the elevator. DAL commented that the note states it is not necessary to weigh the elevator again if an elevator has previously been weighed for the CDCCL requirement and, since the elevator was weighed, no maintenance actions were carried out on it that could have led to an elevator weight increase.

We disagree with the commenter's request to add a note to this final rule. Paragraph (g)(1) of this AD already allows a records review if the elevator weight can be conclusively determined from review of maintenance records. We have not changed this final rule in this regard.

Request To Change Applicability

US Airways requested we change the applicability of the NPRM (78 FR 15335, March 11, 2013) from airplanes to all part numbers of affected elevators. US Airways stated that the NPRM should be a component AD, as the elevators are interchanged among the fleet, and AD applicability by manufacturer serial number (MSN) of the airplane could be confusing.

We disagree with the commenter's request. The FAA risk assessment was performed to determine corrective action(s) for mitigating the unsafe condition at an airplane level. Since the elevator parts are interchanged among the fleet, this final rule applicability at an airplane level will ensure discrepant elevator parts are identified and corrected. We have not changed this final rule in this regard.

Request for Clarification of Applicability

US Airways requested clarification as to why elevators having “MPN D55280002002 & D55280002003” are not included in the NPRM (78 FR 15335, March 11, 2013). US Airways stated that these elevators have a requirement for a weight check after any repair according to Component Maintenance Manual Manufacturer 55-21-15, Revision 13, dated January 1, 2013.

We agree to clarify. The purpose of this AD is to perform a one-time weight check of all elevators that are in service with no record of weight at the time of production. Airbus Modification 150390 installs a placard with the elevator weight during production. The two part numbers referenced by US Airways are installed in production by Airbus Modification 150390, and the configuration is maintained by CDCCL in Airbus A318/A319/A320/A321 Airworthiness Limitations Section Part 2—Damage-Tolerant Airworthiness Limitation Items. Therefore, the two part numbers are not included in this final rule. We have not changed this final rule in this regard.

Request To Approve Alternative Paints

US Airways requested we change the corrective actions in the NPRM (78 FR 15335, March 11, 2013) to reflect that primer paints called out in Structural Repair Manual 51-23-11, Page 10, Table 6, Sheet 3 (F1 area), are approved as alternate paints to apply to elevators that need to be re-painted. US Airways stated that Appendix 1, step (5)(b) and step (6) of Airbus Service Bulletin A320-55-1034, including Appendices 1 and 2, dated August 19, 2011, requires an external paint scheme and the primer materials called out in this service information are not readily available.

We disagree with the commenter's request. The commenter did not provide substantiation for an equivalent alternative to the primer material referenced in the service information in this final rule. The operator may apply for approval of an alternative method of compliance under the provisions of paragraph (m) of this final rule to use different primer material. We have not changed this final rule in this regard.

Request To Correct Typographical Error

DAL noted an error in paragraph (h)(2) of the NPRM (78 FR 15335, March 11, 2013), which should state “than” instead of “that.”

Paragraph (h)(2) of the NPRM (78 FR 15335, March 11, 2013) stated “For elevators other that those identified in . . . .” We agree with the commenter's request and have changed paragraph (h)(2) of this final rule to state “For elevators other than those . . . .”

Request To Revise Certain Terminology

Airbus requested we revise paragraph (i) of the NPRM (78 FR 15335, March 11, 2013) to use the word “restore” in lieu of “repair.” Airbus stated it considers the word “restore” to be more appropriate for the required actions (i.e., removal of paint layers).

We disagree with the commenter's request. The intent of word “repair” is to restore the structure/part to its original type design configuration. Therefore, replacing the word “repair” with “restore” may be misinterpreted. We have not changed this final rule in this regard.

Change to This Final Rule

We have changed the first compliance time specified in paragraph (i) of this AD from “before further flight” to “within the applicable time specified in paragraph (h)(1) or (h)(2) of this AD.” We have determined that this change will provide sufficient time to adequately address the identified unsafe condition.

Conclusion

We reviewed the available data, including the comments received, and determined that air safety and the public interest require adopting this AD with the changes described previously and minor editorial changes. We have determined that these changes:

• Are consistent with the intent that was proposed in the NPRM (78 FR 15335, March 11, 2013) for correcting the unsafe condition; and

• Do not add any additional burden upon the public than was already proposed in the NPRM (78 FR 15335, March 11, 2013).

Costs of Compliance

We estimate that this AD affects 755 products of U.S. registry. We estimate that it will take about 45 work-hours per product to comply with the basic requirements of this AD. The average labor rate is $85 per work-hour. Based on these figures, we estimate the cost of this AD to the U.S. operators to be $2,887,875, or $3,825 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the MCAI in the AD docket on the Internet at http://www.regulations.gov/#!documentDetail;D=FAA-2013-0208-0002; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-25-06 Airbus: Amendment 39-17702. Docket No. FAA-2013-0208; Directorate Identifier 2012-NM-204-AD.

(a) Effective Date

This airworthiness directive (AD) becomes effective February 10, 2014.

(b) Affected ADs

None.

(c) Applicability

This AD applies to the Airbus airplanes, certificated in any category, listed in paragraphs (c)(1) through (c)(4) of this AD, all serial numbers.

(1) Model A318-111, -112, -121, and -122 airplanes.

(2) Model A319-111, -112, -113, -114, -115, -131, -132, and -133 airplanes.

(3) Model A320-111, -211, -212, -214, -231, -232, and -233 airplanes.

(4) Model A321-111, -112, -131, -211, -212, -213, -231, and -232 airplanes.

(d) Subject

Air Transport Association (ATA) of America Code 55, Stabilizers.

(e) Reason

This AD was prompted by a determination that certain maintenance activities, such as repairs or the accumulation of paint layers, might cause the weight of an elevator to exceed the certified limits. We are issuing this AD to detect and correct elevators that exceed certified weight limits, which could result in reduced control of the airplane.

(f) Compliance

You are responsible for having the actions required by this AD performed within the compliance times specified, unless the actions have already been done.

(g) Weight Check

At the applicable time specified in paragraph (h)(1) or (h)(2) of this AD: Do a weight check on the elevators identified in table 1 to paragraph (g) of this AD. Do the weight check in accordance with the Accomplishment Instructions of Airbus Service Bulletin A320-55-1034, including Appendices 1 and 2, dated August 19, 2011, except as specified in paragraphs (g)(1), (g)(2), and (g)(3) of this AD.

Table 1 to Paragraph (g) of This AD—Affected Part Numbers (P/N)
Part name | P/N (first 12 digits only)
Left Hand Elevator | D55280001000
Left Hand Elevator | D55280001002
Left Hand Elevator | D55280001004
Left Hand Elevator | D55280001008
Left Hand Elevator | D55280001010
Left Hand Elevator | D55280001012
Left Hand Elevator | D55280002000
Right Hand Elevator | D55280001001
Right Hand Elevator | D55280001003
Right Hand Elevator | D55280001005
Right Hand Elevator | D55280001009
Right Hand Elevator | D55280001011
Right Hand Elevator | D55280001013
Right Hand Elevator | D55280002001

(1) A review of the airplane maintenance records is acceptable in lieu of the weight check required by the introductory text of paragraph (g) of this AD, provided the elevator weight can be conclusively determined from that review.

(2) The use of elevator weight data from production, as specified in Airbus Service Bulletin A320-55-1034, including Appendices 1 and 2, dated August 19, 2011, is acceptable in lieu of the weight check required by the introductory text of paragraph (g) of this AD, provided that the affected elevator has not been subjected to any maintenance action that could have modified the weight.

(3) Airplanes on which Airbus Modification 150390 has been embodied in production are not required to do the actions specified in the introductory text of paragraph (g) of this AD, provided that no elevator having a part number specified in table 1 to paragraph (g) of this AD has been installed on that airplane since the airplane's first flight.

(h) Compliance Time for the Actions Specified in Paragraphs (g) and (i) of This AD

(1) For an elevator for which, as of the effective date of this AD, the records show that no maintenance actions have been performed since first installation of the elevator on an airplane, which might have increased its weight: Within 72 months after the effective date of this AD.

(2) For elevators other than those identified in paragraph (h)(1) of this AD: Within 48 months after the effective date of this AD.

(i) Corrective Actions

If the elevator weight, determined as required by paragraph (g) of this AD, exceeds the weight limit specified in the Accomplishment Instructions of Airbus Service Bulletin A320-55-1034, including Appendices 1 and 2, dated August 19, 2011: Within the applicable time specified in paragraph (h)(1) or (h)(2) of this AD, do the applicable corrective actions followed by a new weight check of the elevator, in accordance with the Accomplishment Instructions of Airbus Service Bulletin A320-55-1034, including Appendices 1 and 2, dated August 19, 2011. If the elevator weight, determined as required by the new weight check, exceeds the weight limit specified in the Accomplishment Instructions of Airbus Service Bulletin A320-55-1034, including Appendices 1 and 2, dated August 19, 2011: Before further flight with an elevator that exceeds the weight limits established in Airbus Service Bulletin A320-55-1034, including Appendices 1 and 2, dated August 19, 2011, repair the elevator using a method approved by either the Manager, International Branch, ANM-116, Transport Airplane Directorate, FAA; or the European Aviation Safety Agency (EASA) (or its delegated agent).

(j) Elevator Re-Identification

If the elevator weight, determined by the weight check specified in paragraph (g) or (i) of this AD, does not exceed the weight limit specified in the Accomplishment Instructions of Airbus Service Bulletin A320-55-1034, including Appendices 1 and 2, dated August 19, 2011: Within 72 months after the effective date of this AD, record the elevator weight and re-identify the elevator, in accordance with the Accomplishment Instructions of Airbus Service Bulletin A320-55-1042, Revision 01, dated June 29, 2012.

(k) Credit for Previous Actions

This paragraph provides credit for actions required by paragraph (j) of this AD, if those actions were performed before the effective date of this AD using Airbus Service Bulletin A320-55-1042, dated August 19, 2011, which is not incorporated by reference in this AD.

(l) Parts Installation Limitation

As of the effective date of this AD, no person may install on any airplane an elevator with a part number listed in table 1 to paragraph (g) of this AD, unless that elevator is in compliance with the requirements of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Related Information

(1) Refer to Mandatory Continuing Airworthiness Information (MCAI) EASA Airworthiness Directive 2012-0221, dated October 23, 2012, for related information. You may examine the MCAI in the AD docket on the Internet at http://www.regulations.gov/#!documentDetail;D=FAA-2013-0208-0002.

(2) Service information identified in this AD that is not incorporated by reference may be obtained at the addresses specified in paragraph (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Service Bulletin A320-55-1034, including Appendices 1 and 2, dated August 19, 2011.

(ii) Airbus Service Bulletin A320-55-1042, Revision 01, dated June 29, 2012.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 4, 2013.
John P. Piccola,
Acting Manager, Transport Airplane Directorate, Aircraft Certification Service.

[FR Doc. 2013-31527 Filed 1-3-14; 8:45 am]

BILLING CODE 4910-13-P